DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of currently approved collection. The ICR describes the nature of their information collection and the expected burden. The Federal Register Notice with a 60-day comment period soliciting comments on the following collection of information was published on June 30, 2000, (FR 65, page 40716).

DATES: Comments must be submitted on or before November 6, 2000. A comment to OMB is most effective if OMB receives it within 30 days of publication.

FOR FURTHER INFORMATION CONTACT: Judy Street on (202) 267-9895.

SUPPLEMENTARY INFORMATION:

Federal Aviation Administration (FAA)

Title: Office of the Associate Administrator for Commercial Space Standards Survey.

Type of Request: Extension of a currently approved collection.

OMB Control Number: 2120-0611.

Forms(s): N/A.

Affected Public: Approximately 300 representatives of the U.S. commercial launch industry and other industry representatives from related industries such as U.S. satellite manufacturers and users, as well as representatives from businesses and associations which have an interest in our business-related concerns with the U.S. commercial launch industry.

Abstract: This survey is being disseminated to collect industry input on the Customer Service standards published and disseminated by the Office of the Associate Administrator for commercial Space Transportation (AST).

Estimated Annual Burden Hours: 300 hours annually.

ADDRESSES: Send comments to the Office of Information and Regulatory Affairs, Office of Management and Budget, 725—17th Street, NW., Washington, DC 20503, Attention FAA Desk Officer.

Comments are invited on whether the proposed collection of information is necessary for the proper performance of the functions of the Department, including whether the information will have practical utility; the accuracy of the Department's estimate of the burden on the proposed information collections; ways to enhance the quality, utility, and clarity of the information to be collected; and ways to minimize the burden of the collection of information on respondents, in including the use of automated collection techniques of other forms of information technology.

Issued in Washington, DC, on September 29, 2000.
Patricia W. Carter,
Acting Manager, Standards and Information Division, APF-100.

[FR Doc. 00-25641 Filed 10-4-00; 8:45 am]

BILLING CODE 4910-13-M